DEPARTMENT OF JUSTICE

[OMB Number 1121-0NEW]

Agency Information Collection Activities; Proposed eCollection eComments Requested; New Collection; National Prisoner Statistics Program: Maternal Health Supplement

AGENCY: Bureau of Justice Statistics, Department of Justice.

ACTION: 60-Day notice.

SUMMARY: The Bureau of Justice Statistics (BJS), Department of Justice (DOJ), will be submitting the following information collection request to the Office of Management and Budget (OMB) for review and approval in accordance with the Paperwork Reduction Act of 1995.

DATES: Comments are encouraged and will be accepted for 60 days until January 22, 2024.

FOR FURTHER INFORMATION CONTACT: If you have additional comments especially on the estimated public burden or associated response time, suggestions, or need a copy of the proposed information collection instrument with instructions or additional information, please contact Laura Maruschak, Bureau of Justice Statistics, 810 Seventh Street NW, Washington, DC 20531, email: laura.maruschak@usdoj.gov; telephone: 202-598-0802.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: In fiscal year 2021, the United States House Committee on Appropriations directed that BJS include statistics in its data collections that relate to the health needs of incarcerated pregnant women in the criminal justice system, including, but not limited to, the number of pregnant women in custody, outcomes of pregnancies, the provision of pregnancy care and services, health status of pregnant women, and racial and ethnic disparities in maternal health, at the Federal, State, Tribal, and local levels. To address the directive at the state and federal level, BJS developed the NPS-MatHealth survey, a one-time supplement to the National Prisoners Statistics program. The survey will request information on maternal health and pregnancy outcomes between January 1, 2023, and December 31, 2023, including provide the annual count of female admissions to prison tested for pregnancy, the number of those tests that were positive, and the number of pregnancy outcomes by outcome type. Additionally, the data collected will capture maternal health services and accommodations among state DOCs and the BOP and provide a 1-day count (December 31, 2023) of pregnant women by race/Hispanic origin, and the number of women residing in a nursery or residential program in which the infant resides with the mother.

Overview of this information collection:

1. Type of Information Collection: New collection.

2. The Title of the Form/Collection: National Prisoner Statistics program: Maternal Health Supplement (NPS-MatHealth).

3. The agency form number, if any, and the applicable component of the Department sponsoring the collection: Form number is NPS-MatHealth. The Bureau of Justice Statistics is sponsoring the collection.

4. Affected public who will be asked or required to respond, as well as the obligation to respond: Affected Public is State and Federal Government. The obligation to respond is voluntary.

5. An estimate of the total number of respondents and the amount of time estimated for an average respondent to respond: The total number of respondents for NPS-MatHealth is 51. The time per response is 2.5 hours to complete the NPS-MatHealth survey.

6. An estimate of the total annual burden (in hours) associated with the collection: The total annual burden hours for this collection is 126 hours.

7. An estimate of the total annual cost burden associated with the collection, if applicable: $4,056.

Total Burden Hours
Activity | Number of respondents | Frequency | Total annual responses | Time per response | Total annual burden (hours)
NPS-MatHealth | 51 | 1 | 51 | 148 | 126

If additional information is required contact: Darwin Arceo, Department Clearance Officer, United States Department of Justice, Justice Management Division, Policy and Planning Staff, Two Constitution Square, 145 N Street NE, 4W-218, Washington, DC.

Dated: November 15, 2023.
Darwin Arceo,
Department Clearance Officer for PRA, U.S. Department of Justice.

[FR Doc. 2023-25644 Filed 11-20-23; 8:45 am]

BILLING CODE 4410-18-P